DEPARTMENT OF TRANSPORTATION

Federal Highway Administration

Notice of Final Federal Agency Actions on Proposed Highway in California

AGENCY: Federal Highway Administration (FHWA), DOT.

ACTION: Notice of limitation on claims for judicial review of actions by the California Department of Transportation (Caltrans), pursuant to 23 U.S.C. 327.

SUMMARY: The FHWA, on behalf of Caltrans, is issuing this notice to announce actions taken by Caltrans and other Federal agencies that are final within the meaning of 23 U.S.C. 139(l)(1). The actions relate to a proposed project to construct a Direct Access Ramp (DAR) to connect the Interstate 15 (I-15) Managed Lanes facility with the local street system and transit facilities in the Mira Mesa and Scripps Miramar Ranch communities on I-15, from 385 meters (m; 1,265 feet [ft]) north of the Carroll Canyon Road Overcrossing to 960 m (3,150 ft) north of the Mira Mesa Boulevard Undercrossing, in the county of San Diego, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before October 13, 2009. If the Federal law that authorizes judicial review of a claim provides a time period of less than 180 days for filing such claim, then the shorter time period still applies.

FOR FURTHER INFORMATION CONTACT: Susanne Glasgow, Deputy District Director, Division of Environmental Analysis, California Department of Transportation, 4050 Taylor Street, San Diego, CA 92110, Regular Office Hours 8 a.m. to 5 p.m., Telephone number 619-688-0100, e-mail Susanne.Glasgow@dot.ca.gov.

SUPPLEMENTARY INFORMATION: Effective July 1, 2007, the FHWA assigned, and the California Department of Transportation (Caltrans) assumed, environmental responsibilities for this project pursuant to 23 U.S.C. 327. Notice is hereby given that Caltrans has taken final agency actions subject to 23 U.S.C. 139(l)(1) by issuing licenses, permits, and approvals for the following Direct Access Ramp project in the State of California. The project is located in San Diego County and would connect the Interstate 15 (I-15) Managed Lanes facility with the local street system and transit facilities in the Mira Mesa and Scripps Miramar Ranch communities on I-15, from 385 meters (m; 1,265 feet [ft]) north of the Carroll Canyon Road Overcrossing to 960 m (3,150 ft) north of the Mira Mesa Boulevard Undercrossing. The Hillery Drive Alternative has been selected as the Preferred Alternative. The FHWA project reference number is FHWA-CA-EIS-08-01-F. The actions by the Federal agencies and the laws under which such actions were taken are described in the Environmental Assessment with/Finding of No Significant Impact (EA/FONSI) for the project, approved on March 27, 2009, and in other documents in the FHWA project records. The EA/FONSI and other project records are available by contacting Caltrans at the addresses provided above. The Caltrans' EA/FONSI can be viewed and downloaded from the project Web site at http://www.dot.ca.gov/dist11. Pending federal actions include:

• Modified Access Report.

This notice applies to all Federal agency decisions as of the issuance date of this notice and all laws under which such actions were taken, including but not limited to:

1. Council on Environmental Quality regulations;

2. National Environmental Policy Act (NEPA);

3. Safe, Accountable, Flexible, Efficient Transportation Equity Act: A Legacy for Users (SAFETEA-LU);

4. Department of Transportation Act of 1966;

5. Federal Aid Highway Act of 1970;

6. Clean Air Act Amendments of 1990;

7. Clean Water Act of 1977 and 1987;

8. Endangered Species Act of 1973;

9. Migratory Bird Treaty Act;

10. Farmland Protection Policy Act of 1981;

11. Title VI of the Civil Rights Act of 1964;

12. Uniform Relocation Assistance and Real Property Acquisition Act of 1970;

13. National Historic Preservation Act of 1966;

14. Historic Sites Act of 1935;

15. Executive Order 11990, Protection of Wetlands;

16. Executive Order 13112, Invasive Species;

17. Executive Order 11988, Floodplain Management; and,

18. Executive Order 12898, Environmental Justice.

(Catalog of Federal Domestic Assistance Program Number 20.205, Highway Planning and Construction. The regulations implementing Executive Order 12372 regarding intergovernmental consultation on Federal programs and activities apply to this program.)

Authority: 23 U.S.C. 139(l)(1).

Issued on: April 9, 2009.
Karen Bobo,
Director, Local Agency Programs, Federal Highway Administration, Sacramento, California.

[FR Doc. E9-8601 Filed 4-14-09; 8:45 am]

BILLING CODE 4910-RY-P